DEPARTMENT OF COMMERCE

National Oceanic and Atmospheric Administration

RIN 0648-XF626

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) subgroup on low sampling rates in partial coverage.

DATES: The meeting will be held Tuesday, September 12, 2017, from 8:30 a.m. to 10:30 a.m., Alaska time.

ADDRESSES: The meeting will be held via Teleconference only: (907) 271-2896.

FOR FURTHER INFORMATION CONTACT: Diana Evans, Council staff; telephone: (907) 271-2809.

SUPPLEMENTARY INFORMATION:

Agenda

The agenda will be to finalize subgroup recommendations for the Observer Advisory Committee. Details will be posted on the Web site as they become available at: https://www.npfmc.org/observer-program. Meeting will be listening-only for those that are not on the OAC subgroup.

Special Accommodations

The meeting is via teleconference. Request for auxiliary aids should be directed to Maria Shawback at (907) 271-2809 at least 7 working days prior to the meeting date.

Dated: August 22, 2017.
Tracey L. Thompson,
Acting Deputy Director, Office of Sustainable Fisheries, National Marine Fisheries Service.

[FR Doc. 2017-18061 Filed 8-24-17; 8:45 am]

BILLING CODE 3510-22-P